DEPARTMENT OF THE INTERIOR

Bureau of Land Management

[LLAKA01200.L12200000.DP0000]

Notice of Intent To Prepare an Amendment to the Ring of Fire Resource Management Plan for the Campbell Tract Facility, Anchorage, AK

AGENCY: Bureau of Land Management, Interior.

ACTION: Notice of Intent.

SUMMARY: The Bureau of Land Management (BLM) Anchorage Field Office intends to amend the Ring of Fire Resource Management Plan (RMP) to address the 730-acre Campbell Tract Facility administrative site and Special Recreation Management Area in Anchorage, Alaska. The site is currently managed under the 1988 Management Plan for Public Use and Resource Management on the Bureau of Land Management Campbell Tract Facility. The amendment will be supported by an Environmental Assessment (EA).

DATES: The BLM will announce the opening of a 30-day public comment period and the scheduling of any public scoping meetings in Anchorage through local news media, newsletters, and the BLM Web site (http://www.blm.gov/ak) at least 15 days prior to the meetings. The BLM will provide additional opportunities for public comment after publication of the draft amendment and EA.

ADDRESSES: Submit comments by any of the following methods:

• Web site: http://www.blm.gov/ak.

• E-mail: ak_ctf_amend@blm.gov.

• Fax: (907) 267-1267.

• Mail: BLM Anchorage Field Office, Attention—Campbell Tract Facility Amendment, 4700 BLM Road, Anchorage, Alaska 99507.

Documents pertinent to this proposal may be examined at the BLM Anchorage Field Office, 4700 BLM Road, Anchorage, Alaska.

FOR FURTHER INFORMATION CONTACT: For information and/or to have your name added to the mail list, contact Jeff Kowalczyk (jkowalcz@blm.gov) at (907) 267-1459.

SUPPLEMENTARY INFORMATION: The BLM-administered Campbell Tract Facility is located in south-central Alaska, within the Municipality of Anchorage. This planning activity encompasses approximately 730 acres of public land in the Ring of Fire planning area. The BLM released the Ring of Fire RMP Record of Decision (ROD) in March 2008. The ROD specified that management of the Campbell Tract Facility administrative site would continue to be guided by the 1988 Management Plan for Public Use and Resource Management on the Bureau of Land Management Campbell Tract Facility and any updates to the plan.

The BLM intends to amend the Ring of Fire RMP and revise the 1988 Campbell Tract Facility management plan. A revised Campbell Tract Facility management plan will analyze and provide new management decisions for this site. Management decisions shall be consistent with public land orders for the administrative withdrawal of the area. The plan will fulfill the needs and obligations set forth by the National Environmental Policy Act of 1969 (NEPA), the Federal Land Policy and Management Act of 1976 (FLPMA), and BLM management policies. The BLM will work collaboratively with interested parties to identify the management decisions that are best suited to local, regional, and national needs and concerns.

The preliminary issues and opportunities to be addressed by this planning effort are increased annual visitation, commercial use, on-going trail maintenance, potential for development of administrative facilities, public safety, the expanding role of environmental education, and optimizing outcome-focused management for recreation planning.

The plan amendment and EA will—

• Determine which types of commercial uses, if any, will be authorized within the four management areas on the Campbell Tract Facility: airstrip, science center, administrative buildings, and the Special Recreation Management Area designated by the 1985 Recreation Action Plan;

• Develop a Special Recreation Management Area plan for the Campbell Tract Facility in accordance with Appendix C of the BLM Land Use Planning Handbook (H-1601-01);

• Identify development needs for the existing Campbell Airstrip corridor and for aviation and emergency management;

• Decide whether administrative facilities are sufficient for current and future operations;

• Identify reasonable management actions for addressing trail/user conflicts;

• Decide whether additional special rules are necessary; and

• Determine what ongoing maintenance to facilities and trails is appropriate.

Preliminary planning criteria include the following:

1. The BLM manages public lands under the principles of multiple use/sustained yield as set forth in FLPMA;

2. The plan amendment will address surface acres administered by the BLM at Campbell Tract Facility;

3. Decisions will be limited to those related to the four existing management areas: airstrip, science center, administrative buildings, and the Special Recreation Management Area;

4. Valid existing rights will be protected throughout the planning area;

5. Established and current agreements will remain in effect;

6. Plans and policies of adjacent land owners/managers will be considered;

7. The BLM will encourage and participate in collaborative planning;

8. The BLM will comply with all relevant laws, statues, regulations, manuals, and handbooks;

9. This planning effort will conform to NEPA, FLPMA, the BLM Land Use Planning Handbook (H-1601-1), and other applicable BLM policies;

10. The plan will be consistent with the BLM Alaska Land Health Standards; and

11. The BLM will use an interdisciplinary approach while developing the plan to ensure consideration of the variety of resource issues and concerns identified.

The purpose of the public scoping process is to identify relevant issues and planning criteria that will guide the planning process and influence the EA's scope and alternatives. You may submit comments in writing to the BLM at the public scoping meeting or by the methods listed in the ADDRESSES section above. Before including your address, phone number, e-mail address, or other personal identifying information in your comment, you should be aware that your entire comment—including your personal information—may be made publicly available at any time. While you can ask us in your comment to withhold your personal identifying information from public review, we cannot guarantee that we will be able to do so.

Thomas P. Lonnie,
State Director.

[FR Doc. 2010-3169 Filed 2-18-10; 8:45 am]

BILLING CODE 4310-JA-P